INTERNATIONAL TRADE COMMISSION

[Investigation Nos. 731-TA-873-875, 878-880, and 882 (Fourth Review)]

Steel Concrete Reinforcing Bar (Rebar) From Belarus, China, Indonesia, Latvia, Moldova, Poland, and Ukraine

Determinations

On the basis of the record ¹ developed in the subject five-year reviews, the United States International Trade Commission (“Commission”) determines, pursuant to the Tariff Act of 1930 (“the Act”), that revocation of the antidumping duty orders on rebar from Belarus, China, Indonesia, Latvia, Moldova, Poland, and Ukraine would be likely to lead to continuation or recurrence of material injury to an industry in the United States within a reasonably foreseeable time.²

¹ The record is defined in § 207.2(f) of the Commission's Rules of Practice and Procedure (19 CFR 207.2(f)).

² Commissioner David S. Johanson voted in the negative for Latvia and Ukraine.

Background

The Commission instituted these reviews on November 1, 2023 (88 FR 75033) and determined on February 5, 2024, that it would conduct full reviews (89 FR 13089, February 21, 2024). Notice of the scheduling of the Commission's reviews and of a public hearing to be held in connection therewith was given by posting copies of the notice in the Office of the Secretary, U.S. International Trade Commission, Washington, DC, and by publishing the notice in the Federal Register on April 15, 2024 (89 FR 26188). The Commission conducted its hearing on October 3, 2024. All persons who requested the opportunity were permitted to participate.

The Commission made these determinations pursuant to section 751(c) of the Act (19 U.S.C. 1675(c)). It completed and filed its determinations in these reviews on December 10, 2024. The views of the Commission are contained in USITC Publication 5565 (December 2024), entitled Steel Concrete Reinforcing Bar from Belarus, China, Indonesia, Latvia, Moldova, Poland, Ukraine: Investigation Nos. 731-TA-873-875, 878-880, and 882 (Fourth Review).

By order of the Commission.
Issued: December 10, 2024.
Lisa Barton,
Secretary to the Commission.

[FR Doc. 2024-29441 Filed 12-12-24; 8:45 am]

BILLING CODE 7020-02-P